DEPARTMENT OF COMMERCE

National Oceanic and Atmospheric Administration

RIN 0648-XF50

Western Pacific Fishery Management Council; Public Meeting

AGENCY: National Marine Fisheries Service (NMFS), National Oceanic and Atmospheric Administration (NOAA), Commerce.

ACTION: Notice of public meeting.

SUMMARY: This notice advises the public that the Western Pacific Fishery Management Council (Council) will hold a public meeting in Pago Pago, American Samoa to discuss potential management actions pertaining to pelagic longline and pelagic purse seine fishing in offshore waters around American Samoa.

DATES: The public meeting will be held on Saturday February 23, 2008 at the American Samoa Department of Marine and Wildlife Resources Conference Room. Written comments will be accepted until March 7, 2008. For specific times, and the agenda, see SUPPLEMENTARY INFORMATION.

ADDRESSES: The public meeting will be held on Saturday February 23, 2008 from 9 a.m. to 1 p.m. at the American Samoa Department of Marine and Wildlife Resources Conference Room, Pago Pago, American Samoa. Send written comments to Kitty M. Simonds, Western Pacific Regional Fishery Management Council, 1164 Bishop Street, Suite 1400, Honolulu, HI 96813.

FOR FURTHER INFORMATION CONTACT: Kitty M. Simonds, Executive Director; telephone: (808)522-8220.

SUPPLEMENTARY INFORMATION:

Agenda

The agenda for the meeting is as follows. Council is seeking public input on agenda items 2 and 3.

Saturday February 23, 2008 9 a.m.—1 p.m.

1. Introductions

2. American Samoa Purse-Seine Close Area Alternatives

3. American Samoa Pelagic Longline Management Program Modification Alternatives

4. Public Comments

American Samoa Purse-Seine Closed Area Alternatives

At its 138th meeting held in June 2007, the Council discussed the potential for increases in purse seine fishing within the U.S. Exclusive Economic Zone surrounding American Samoa and directed staff to develop a paper examining potential options to expand the existing 50 miles large pelagic vessel exclusion zone specifically for purse seine vessels to avoid potential gear conflicts between these vessels and the American Samoa longline and domestic troll vessels. At its 139th meeting held in October 2007, the Council recommended an amendment be developed which included a range of preliminary alternatives as follows:

Alternative 1: No-Action

Under the no-action alternative waters within 3-50 nm around American Samoa would continue to be closed to pelagic fishing by vessels greater than 50ft in length including purse seine vessels

Alternative 2: Close Entire EEZ Waters around American Samoa to Purse Seine Fishing

Under Alternative 2, a closed area would be established to exclude purse seine vessels from operating within all EEZ waters around American Samoa

Alternative 3: Close 75 nm around American Samoa to Purse Seine Fishing (Preliminarily Preferred)

Under Alternative 3, a closed area would be established to exclude purse seine vessels from operating within 75 nm around American Samoa

American Samoa Longline Management Program Modification Alternatives

At its 139th Council meeting, the Council directed staff to draft a regulatory amendment that would provide a framework to adjust the American Samoa longline limited entry program, including establishing a process to reopen the limited entry permit application process, amending the large (>50ft) pelagic vessel 50 nm closed areas, and eliminating the minimum landing requirements for all vessel size classes in the American Samoa longline limited entry program.

These issues were brought before the Council by fishery participants who were concerned that rapid changes in the American Samoa pelagic longline fishery over the past several years has resulted in lower than anticipated participation in the fishery, and that the current measures including the large vessel area closure, minimum landing requirements and initial permit qualification criteria be reviewed in order to ensure that the management program continues to ensure sustained participation in the domestic longline fishery and to maintain opportunities for substantial participation by indigenous American Samoans in this fishery while minimizing adverse impacts on American Samoa communities.

Regarding potential modification to the American Samoa pelagic longline limited entry permit and landing requirements, the preliminary alternatives to be discussed include:

Alternative 1: No Action

Under Alternative 1, the Council would not re-open the permit application process and would not remove the minimum landing requirement.

Alternative 2

Under Alternative 2, the Council would not re-open the permit application process but would remove the minimum landing requirement.

Alternative 3

Under Alternative 3 the Council would re-open the permit application process but would not remove the minimum landing requirement.

Alternative 4

Under Alternative 4 the Council would re-open the permit application process and would also remove the minimum landing requirement.

Regarding the American Samoa large pelagic vessel area closure, the preliminary alternatives to be discussed include:

Alternative 1: No Action, Maintain Current 50 nm closure to vessels greater than 50 ft.

Under Alternative 1, the Council would maintain the current 50 nautical mile area closure for pelagic fishing vessels greater than 50 ft. around the islands of the American Samoa Archipelago

Alternative 2: Modify the area closure to 25 nautical miles

Under Alternative 2, the Council would temporarily reduce the area closure from 50 nautical miles to 25 nautical miles. The Council would also review the status of the fishery every two years to determine whether the closure should be maintained at 25 miles or return back to 50 nautical miles.

Alternative 3: Modify the area closure to 12 nautical miles

Under Alternative 3, the Council would temporarily reduce the area closure from 50 nautical miles to 12 nautical miles. The Council would also review the status of the fishery every two years to determine whether the closure should be maintained at 12 miles or return back to 50 nautical miles.

Alternative 4: Suspend the 50 mile area closure indefinitely

Under Alternative 4, the Council would suspend the 50 mile area closure indefinitely. The Council would also review the status of the fishery every two years to determine whether the closure should be returned back to 50 nautical miles.

The order in which agenda items addressed may change. Public comment periods will be provided throughout the agenda and written comments will be accepted until March 7, 2008.

Special Accommodations

These meetings are physically accessible to people with disabilities. Requests for sign language interpretation or other auxiliary aids should be directed to Kitty M. Simonds, (808)522-8220 (voice) or (808)522-8226 (fax), at least 5 days prior to the meeting date.

Authority: 16 U.S.C. 1801 et seq.

Dated: February 4, 2008.
Tracey L. Thompson,
Acting Director, Office of Sustainable Fisheries, National Marine Fisheries Service.

[FR Doc. E8-2250 Filed 2-6-08; 8:45 am]

BILLING CODE 3510-22-S